DEPARTMENT OF LABOR

Employment and Training Administration

Solicitation for Grant Applications (SGA), Grants for Program Year 2006

Announcement Type: New.

Notice of availability of funds and solicitation for grant applications for Women in Apprenticeship and Nontraditional Occupations (WANTO) grants.

Funding Opportunity Number: SGA/DFA-PY-06-01.

Catalog of Federal Domestic Assistance Number: 17.201.

Key Dates: The closing date for receipt of applications is April 16, 2007.

SUMMARY: The Women's Bureau and the Employment and Training Administration's (ETA) Office of Apprenticeship, U.S. Department of Labor (DOL), announce the availability of $972,180 to establish a grant program for the purpose of assisting employers and labor unions in the placement and retention of women in apprenticeship and nontraditional occupations. This program year 2006 SGA is authorized under the Women in Apprenticeship and Nontraditional Occupations (WANTO) Act of 1992, Pub. L. 102-530, 29 U.S.C. 2501 et seq. To that end, the OA and the WB plan to disburse 2006 WANTO grant funds to three community-based organizations (CBOs) including faith-based organizations (FBOs)/registered apprenticeship program (RAP) consortia to conduct innovative projects to improve the recruitment, selection, training, employment, and retention of women in apprenticeships in the construction industry. Each CBO/RAP consortium must consist of a minimum of: (1) a construction industry Registered Apprenticeship Program sponsor, and (2) a CBO (which may be faith based) with demonstrated experience in securing job training services from established training institutions such as community colleges, and providing placement and support services to women in construction industry jobs.

It is anticipated that awards will be in the amount of approximately $300,000.

SUPPLEMENTARY INFORMATION: This SGA consists of eleven (11) sections:

• Section I provides the funding opportunity description.

• Section II describes the size and nature of the anticipated awards.

• Section III describes applicant eligibility criteria.

• Section IV outlines the application submission and withdrawal requirements.

• Section V describes the application review information.

• Section VI outlines additional award administration information.

• Section VII lists the Agency Contact.

• Section VIII provides other information, including acronyms and definitions.

I. Funding Opportunity Description

A. Background

The Women in Apprenticeship and Nontraditional Occupations (WANTO) Act of 1992, Pub. L. 102-530 29 U.S.C. 2501 et seq. authorizes the U.S. Department of Labor (DOL) to disburse technical assistance grants to promote the recruitment, training, and retention of women in apprenticeship and nontraditional occupations. The Women's Bureau (WB) co-administers the WANTO program with the DOL ETA Office of Apprenticeship (OA). The OA and the WB have the responsibility for implementing this grant process.

B. Purpose

The WANTO Act's purpose is to provide technical assistance to employers and labor unions (E/LU) to encourage employment of women in apprenticeships and nontraditional occupations (A/NTO). One of the means of providing technical assistance is through competitive grants which focus on conducting innovative projects to improve the recruitment, selection, training, employment, and retention of women in apprenticeships in the construction industry. WANTO grants are awarded to community-based organizations (CBOs), which may include faith-based, union-related organizations and employer-related nonprofit organizations, among others. DOL has found that placement and retention of women in A/NTO pose significant challenges. For example, on average, only three percent of all newly registered and active apprentices in construction occupations are women. Approximately 75 percent of all registered apprenticeship programs are in the construction industry. Therefore, the Department is focusing this notice on registered apprenticeship opportunities for women in the construction industry. From 1994 to 2002, the DOL funded WANTO grants annually to CBOs and FBOs that delivered technical assistance to employers and labor organizations to prepare them to successfully recruit, train, employ and retain women. The outcomes of these prior WANTO grants consisted largely of training and resource manuals, as well as recruitment videos. Numbers of women placed in registered apprenticeships through WANTO grant activities were lower than expected. Therefore, the FY 2006 WANTO grants are intended to help connect women with the significant employment opportunities available in registered apprenticeship programs in the construction industry. Additionally, to ensure women served by these PY 2006 WANTO grants have access to a full range of supportive services and training, as well as specific employment opportunities, this SGA requires applicants to demonstrate establishment of a consortium consisting of CBOs and RAP sponsors whereby the employers and RAP sponsors will be responsible partners for placing women into their programs. For the purposes of this notice, all apprenticeable occupations in the construction industry meet the definition of NTO.

II. Award Information

A. Grant Awards

The OA and the WB anticipate awarding two-year grants totaling approximately $300,000 each to up to three CBO/RAP consortia, each consisting of a minimum of one each of: (1) A construction industry RAP sponsor, and (2) a CBO (which may be faith based) with demonstrated experience in securing job training services from established training institutions such as community colleges, and providing placement and support services to women in construction industry jobs. The grants will be funded in increments of $150,000 for each year. Funding for the second year will be contingent upon satisfactory progress toward grant requirements for placement of women in registered apprenticeship programs as discussed in Section V.

B. Period of Performance

The period of performance will be up to 24 months from the date of execution of the grant documents. DOL ETA may approve a request for a no cost extension to grantees for an additional period of time based on the success of the project and other relevant factors.

III. Eligibility Information

A. Eligible Applicants

Under this announcement only CBO/RAP consortia, as defined in sections II and VIII of this SGA, may apply for and receive a grant award. This requirement does not prevent the participation of other entities which are integral to the implementation of the project.

IV. Application and Submission Information

A. Address To Request Application Package

Please note that this announcement includes all the information and forms needed to apply for this funding opportunity. Additionally, all application materials will be made available on the following Web sites: http://www.doleta.gov/sga/ and http://www.grants.gov.

B. Content and Form of Application

Each application must include the original signed application and two hard copies. The proposal must consist of two separate and distinct parts: Part A—Financial Proposal; and Part B—Technical Proposal. Both parts must be included in each copy of a complete application. Applications that fail to adhere to the instructions in this section may be deemed non-responsive and may not be considered for funding.

1. Requirements for the Technical Proposal

The technical proposal text is limited to twenty (20) double-spaced, single-sided 8.5 inches by 11 inch pages with 12 point text font and one-inch margins. Pages must be numbered. Only those attachments listed below as “Required Attachments” will be excluded from the page limit. The “Required Attachments” must be affixed as separate, clearly identified appendices to the application. The “Required Attachments” are as follows:

(a) A Table of Contents, listing the application sections.

(b) Documentation of applicant eligibility, as described in Part III of this notice. CBOs should provide proof of their status as a private nonprofit organization as defined under section 101(7) of the Workforce Investment Act of 1998, Pub. L. 105-220, 29 U.S.C. 2801 et seq. DOL ETA will verify that RAP sponsors are registered with DOL ETA or a DOL ETA-recognized State Apprenticeship Agency.

(c) A two-page abstract, summarizing the proposed project.

(d) Documentation of its experience, capability, and qualifications for recruiting, training, hiring and retaining women in A/NTO, as described in Part V, Section A1, “Organizational Overview” of this notice.

(e) An organizational chart, resumes, or key personnel, and complete staffing plans. Resumes of all key staff (e.g., Executive Director, Project Director etc.) must include a description of each individual's roles and responsibilities, his/her current employment status and previous work experience, including position title, duties, dates in position, employing organizations and educational background. Staffing plans must identify all key tasks, the person(s) or days required to complete each task and the percentage of time allocated to the program by individuals assigned to the task, including sub-contractors and consultants.

(f) A list of all items for which grant funds will be expended and what organization will be responsible for each item. Only expenditure items, not cost information, should be included.

(g) The consortium of organizations must include a copy of the consortium agreement and must identify the consortium member that will act as the administrative entity for the project as well as the project lead. No member of a consortium shall make a separate application under this grant program. In addition, the agreement must specify the consortium's arrangements for handling the administrative and financial responsibilities for the program.

Note: Optional attachments will be counted toward the page limitation. Such optional attachments must be limited to meaningful information that contributes to and/or verifies the proposed activities, such as letters of commitment.

2. Requirements for the Cost Proposal

Application for Federal Assistance SF-424. The SF-424 must clearly identify the applicant and be signed by an individual with authority to enter into a grant agreement on behalf of the applicant. Upon confirmation of an award, the individual signing the SF-424 on behalf of the applicant shall represent the responsible entity. All applications for Federal grant and funding opportunities are required to have a Dun and Bradstreet (DUNS) number. Applicants must supply their DUNS number in item #8 of SF-424. The DUNS number is easy to obtain and there is no charge. To obtain a DUNS number, access http://www.dnb.com or call 1-866-705-5711.

Budget Information for SF-424A. Standard Form 424A must contain a detailed cost break-out on each of the expenditures under Section B of the form, including Federal and non-Federal funds. As noted in Section II.A, the budget should be prepared for the first year of the grant. Copies of all required forms along with the instructions for completing the forms are provided at the appendices of this SGA.

Note: The Application for Federal Assistance (SF-424) is available at http://www.grants.gov/techlib/424_20090131.doc and the Budget Information Form (SF-424A) is available at http://www.doleta.gov/sga/forms/form424a.pdf.

EEO Survey. Applicants are also required to submit OMB Survey N. 1890-0014: Survey on Ensuring Equal Opportunity for Applicants, which can be found at http://www.doleta.gov/sga/forms.cfm.

Cost Categories. Expenditures must fall under one of two cost categories: Administrative, which is to be divided between headquarters and local; and Program Costs, which includes wages, fringe benefits, and other participant costs.

Transition and Training Costs. Applicants are required to provide a line item for transition costs (i.e., start-up [costs], participant transfers, year-end closeout), as well as for sufficient training costs for local staff that may be required by the DOL ETA throughout the program year. Procurement procedures must comply with OMB Circular A-122, Cost Principles for Non-Profit Organizations, and any additional Federal cost principles, as applicable.

Applicants are to include in their cost proposal the cost of any requested travel to Washington, DC.

C. Submission Dates, Times and Addresses

Applications may be submitted in either method described below, and must be received no later than 4:45 p.m., Eastern Time on the closing date. The application will not be considered if an applicant fails to adhere to the submission instructions below.

Electronic Submissions. The Department requests that applicants apply online at http://www.grants.gov. The Department strongly recommends that applicants immediately initiate and complete the “Get Started” steps to register with grants.gov at http://www.grants.gov/GetStarted. Please note that these steps could take several days to complete, and this time should be factored into plans for electronic application submission in order to avoid facing unexpected delays that could result in the rejection of an application. Documents should be saved as .doc or .pdf prior to electronic submission through grants.gov.

U.S. Postal Mail and Overnight Submissions. Submit one (1) blue-ink signed, typewritten original of the application, and two (2) signed photocopies in one package to: U.S. Department of Labor, Employment and Training Administration, Attention: James Stockton, Mail Stop: N-4716, 200 Constitution Avenue, NW., Washington, DC 20210.

Other Methods of Submission. Applications submitted by email, telegram, or facsimile will not be accepted.

Late Applications. Any application received after the closing date will not be considered, unless it is received before awards are made and:

(a) It was sent by U.S. Postal Service registered or certified mail no later than the fifth calendar day before the closing date (e.g., an application required by the 20th of the month must be postmarked by the 15th of that month); or

(b) It was sent by U.S. Postal Service Express Mail/Next Day Service from the post office to the addressee no later than 4:45 p.m. at the place of mailing, two (2) working days (excluding weekends and Federal holidays and days when the Federal Government is closed), prior to the closing date; or

(c) It is determined by the Government that the late receipt was due solely to the mishandling by the Federal Government after receipt at the U.S. Department of Labor at the address indicated.

Acceptable Evidence for Late Applications. The only acceptable evidence to establish the date of mailing of a late application sent by registered or certified mail is the U.S. Postal Service postmark on the envelope or wrapper and on the original receipt from the U.S. Postal Service. If the postmark is not legible, an application received after the closing date and time shall be considered, as if mailed late.

The only acceptable evidence to establish the date of mailing of a late application sent by U.S. Postal Service Express Mail/Next Day Service from the post office to the addressee is the date entered by the Post Office receiving clerk on the “Express Mail/Next Day Service—Post Office to Addressee” label, and the postmark on the envelope or wrapper on the original receipt from the U.S. Postal Service.

“Postmarked” means a printed, stamped, or otherwise placed impression (exclusive of a postage meter machine impression) that is readily identifiable, with further action, as having been supplied or affixed on the date of mailing by an employee of the U.S. Postal Service. Therefore, applicants should request the postal clerk to place a legible hand cancellation, “bull's eye,” postmark on both the receipt and the envelope or wrapper.

Mail Advisory in the DC Area. All applicants are advised that U.S. mail delivery in the Washington, DC area is erratic. Packages addressed to the U.S. Department of Labor are subject to radiation screening before delivery. All applicants must take this into consideration when preparing to meet the application closing date, as each applicant assumes the risk for ensuring a timely submission of its application. The Department recommends that applicants confirm receipt of their applications by contacting James Stockton, U.S. Department of Labor, Employment and Training Administration, Office of Grants and Contract Management, telephone (202) 693-3335 before the closing date. This is not a toll-free number.

Applications may be withdrawn by written notice or telegram (including mailgram) at any time before the Department makes an award. An applicant may withdraw its submissions in person by the applicant or through an authorized representative of the applicant if: (1) The applicant makes the representative's identity known to the Grant Officer, and (2) the representative signs a receipt when he or she receives the withdrawn application.

D. Funding Restrictions

Administrative Costs. The primary use of grant funds should be to support the actual project. Therefore, applicants receiving grant funds under this solicitation may not use more than 10 percent of the amount requested for Administrative costs associated with the project. Administrative costs are defined at 20 CFR 667.220.

Indirect Cost Rate. An indirect cost rate is required when an organization operates under more than one grant or other activity whether federally-assisted or not. Organizations must use the indirect cost rate supplied by the cognizant Federal agency. If an organization requires a new indirect cost rate or has a pending indirect cost rate, the Grant Officer will award a billing rate for 90 days until a provisional rate can be issued.

Allowable Costs. The Department shall determine what constitutes allowable costs in accordance with the following Federal cost principles, as applicable: (1) State and Local Government—OMB Circular A-87; (2) Educational Institutions—OMB Circular A-21; (3) Nonprofit Organizations—OMB Circular A-122; and (4) Profit-making Commercial Firms—48 CFR part 31.

Legal rules pertaining to inherently religious activities by organizations that receive Federal financial assistance. The government is generally prohibited from providing direct Federal financial assistance for inherently religious activities. See 29 CFR part 2, subpart D. Grants under this solicitation may not be used for religious instruction, worship, prayer, proselytizing, or other inherently religious activities. Neutral, non-religious criteria that neither favor nor disfavor religion will be employed in the selection of grant recipients and must be employed by grantees in the selection of sub-recipients.

V. Application Review Information

A. Evaluation Criteria

All applicants are required to use the rating criteria format when developing their proposals. The technical panel will review grant applications against the criteria listed below. Up to 135 points may be awarded to an application. This total is based on up to 100 points for the required information described in A.1, 2, and 3 below, and up to 35 bonus points for special program emphasis described in A.4 below. In order to receive full credit, applicants must provide quality information that does more than reiterate the requirement statement or merely state how it will be accomplished. Therefore, responses must be thoughtful and reflect a strategic vision for how these requirements will be achieved. In addition, an applicant that describes only what has been accomplished in the past but lacks full description what it will be doing during the grant period will not receive credit for the response.

Points Summary:

1. Organizational Overview—20 points.

2. Placement of Women in Registered Apprenticeship Programs—30 points.

3. Scope of WANTO Project and Projected Outcomes—50 points.

4. Bonus—35 points.

a. Incorporation of more than one RAP in the consortium—10 points.

b. Incorporation of more than one construction industry discipline in the RAP partners—5 points.

c. Incorporation of multiple geographic areas into the consortium—10 points.

d. Incorporation of Technology-Based Learning into the project to support/facilitate participant's training and preparation for apprenticeship—10 points. See Section VIII for a definition and examples of Technology-Based Learning.

1. Organizational Overview (Up to 20 Points)

The applicant must demonstrate its experience, capability and qualifications for administering a grant project. To be considered fully responsive, the applicant must address all of the following:

(a) Describe the consortium members' experience and leadership for the purpose of recruiting, selecting, training, placing and retaining women in apprenticeships in the construction industry.

(b) The applicant must describe how the management structure and staffing of the organization are aligned with the grant requirements, vision, and goals; and how the structure and staffing are designed to assure responsible general management of the organization.

(c) Identify all key tasks, the hours required for the completion of such tasks, and the persons responsible for completing each task.

(d) Indicate if tradeswomen or women in nontraditional occupations serve as active members of the consortium members, as either employed staff or as board members.

(e) Where applicable, differentiate between the applicant consortium and any proposed consultants or subcontractors, providing information on each of the above.

2. Placement of Women in Registered Apprenticeship Programs (Up to 30 Points)

The consortium must demonstrate how it will place 100 women in RAP(s) each year of the grant. For full credit under this element, the applicant must provide detailed information for the following:

(1) Strategies for identifying the occupations in which RAP(s) plan to train and employ women; (2) a description of the types of construction apprenticeable occupations in which the RAP(s) plans to train and employ women; (3) the number of apprentices registered by the RAP(s) per year for the last five years; and (4) assurances that there are or will be suitable and appropriate positions available in the construction industry RAP(s)

3. Scope of WANTO Project and Projected Outcomes (Up to 50 Points)

The applicant must demonstrate comprehensive, targeted, and effective technical assistance to be provided to the RAP(s) with WANTO funding. The OA and the WB consider the successful placement of 100 women in construction industry apprenticeships the primary successful outcome a grantee can achieve with WANTO funding.

To be considered fully responsive, the applicant must:

(a) Provide in detail the types of technical assistance (TA) that will be provided to the RAP(s). Examples of such TA include: (1) Outreach strategies and orientation sessions to recruit women into the RAP(s) occupations and specific openings in RAP(s); (2) pre-apprentice occupational skills training to prepare women for apprenticeship, including English as a Second Language instruction; (3) ongoing orientations for the RAP(s) and workers on creating a successful environment for women in apprenticeship; (4) support groups and facilitating networks for women in apprenticeship, on or off the job site, to improve their retention; (5) liaison services between tradeswomen and the RAP(s) to address workplace issues related to gender; and (6) conducting exit interviews with tradeswomen to evaluate their on-the-job experience and to assess the effectiveness of the program.

(b) Document any leveraged resources or funding anticipated for the accomplishment of the proposed project and a description of how the funds will be used.

(c) Describe the outcomes the applicant anticipates as a result of WANTO funding. This must include the number of women to be placed in: (1) pre-apprenticeships, and (2) apprenticeships.

4. Bonus Points (Up to 35 Points)

Bonus points will be awarded for proposals that demonstrate experience or indicate their plans to provide one or more of the following:

a. Incorporation of more than one RAP in the consortium. (10 points).

b. Incorporation of more than one construction industry discipline in the RAP partners. (5 points).

c. Inclusion of multiple geographical areas into the consortium. (10 points).

d. Incorporation of Technology-Based Learning into to support and facilitate the project participant's training and preparation for apprenticeship. (10 points).

B. Review and Selection Process

Selection Process. The Grant Officer will organize evaluation panels to review and evaluate the applications, using the point scoring system and Rating Criteria format specified in Section A above. The Grant Officer will rank applications based on the score assigned by the panels through the evaluation process. The ranking will be the primary basis used to identify applicants as potential grantees; however, the review panel's recommendations are advisory in nature and not binding on the Grant Officer. The Government will consider applications rated by the evaluation panels with a score of 80 or above to be eligible for a grant award. Applicants that score less than 80 will not be eligible for a grant award.

Other Evaluation Factors. The submission of a successful previous application for a WANTO grant from any prior year does not guarantee an award under this solicitation. Final awards will be made based on the best interests of the Federal Government, including, but not limited to, such factors as technical quality, geographic balance, occupational and/or industrial impact, availability of funds, uniqueness of project and past grant performance. A previous grantee's failure to complete a WANTO grant project within the grant award period, or failure to provide required reports in a timely manner are aspects of past grant performance that may result in denial of a 2006 grant. The Federal Government reserves the right to ask for clarification or hold discussion, but may elect to award a grant without such discussion. Should a grant be awarded without discussions, the award will be based on the applicant's signature on the SF 424, which constitutes a binding offer by the applicant. The Grant Officer's determination of award under this SGA is the final agency action.

VI. Additional Award Administration Information

A. Award Notices

All award notifications will be posted on ETA Homepage (http://www.doleta.gov). The Grant Officer expects to announce the results of this competition approximately sixty days after the closing date for receipt of applications.

B. Administrative and National Policy Requirements

1. Administrative Program Requirements

All grantees, including faith-based organizations will be subject to all applicable Federal laws (available at http://thomas.loc.gov), regulations (available at http://gpoaccess.gov/cfr) and the applicable Office of Management and Budget (OMB) Circulars (available at http://www.whitehouse.gov/omb/circulars). The grants awarded under this SGA will be subject to administrative standards and provisions as applicable, including but not limited to, the following:

• All Grant Recipients—20 Code of Federal Regulations (CFR) Part 667.220 (Administrative Costs).

• Non-Profit Organizations—OMB Circulars A-122 (Cost Principles) and 29 CFR Part 95 (Administrative Requirements).

• Educational Institutions—OMB Circulars A-21 (Cost Principles) and 29 CFR Part 95 (Administrative Requirements).

• All entities must comply with 29 CFR Parts 37, 93, and 98, and where applicable 29 CFR Parts 96 and 99.

2. Administrative Standards and Provisions

Except as specifically provided, DOL ETA acceptance of a proposal and an award of Federal funds to sponsor any program(s) does not provide a waiver of any grant requirements and/or procedures. For example, the OMB Grants Management circulars require, and an entity's procurement procedures must require, that all procurement transactions will be conducted, as practical, to provide full and open competition. If a proposal identifies a specific entity to provide the services, the DOL ETA award does not provide the justification or basis to sole-source the procurement, i.e., avoid competition.

C. Reporting

The grantee is required to provide the reports and documentation listed below.

Quarterly Financial Reports. A Quarterly Financial Status Report (SF 269) is required until such time as all funds have been expended or the grant period has expired. Quarterly reports are due 30 days after the end of each calendar year quarter. Grantees must use DOL ETA's On-Line Electronic Reporting System.

Quarterly Progress Reports. The grantee must submit a quarterly progress report to the designated Federal Project Officer within 30 days after the end of each calendar year quarter. Two copies are to be submitted providing a detailed account of activities undertaken during that quarter. DOL ETA may require additional data elements to be collected and reported on either a regular basis or special request basis. Grantees must agree to meet DOL ETA reporting requirements. The quarterly progress report should be in narrative form and should include:

(a) A comparison of actual accomplishments with the goals and objectives established for the period. This must include discussion of placements in pre-apprenticeship programs, apprenticeships and nontraditional jobs, giving the name and address of each workplace and company involved; and TA provided to RAP(s) as well as the nature of the TA provided.

(b) Reasons why established goals were not met, if appropriate.

(c) Any problems that may impede the performance of the grant and the proposed corrective action.

(d) Any changes in the proposed work to be performed during the next reporting period.

In addition, between scheduled reporting dates, the grantee(s) shall immediately inform the OA and the WB of significant developments affecting the ability to accomplish the work.

Final Report. No later than 90 days after the expiration of the grant award, the grantee(s) shall submit two copies of the camera-ready final report, each bound in a professional manner in a loose-leaf notebook. These materials must be paid for with grant funds. Instructions for the final report will be issued and may include performance data, outcome results, an assessment of the grant project, any employer or labor organization plans for follow-up of participants, and Executive Summary of no more than three (3) pages. Upon request of either the OA and the WB or the grantee, the grantee shall submit a draft final report no more than 60 days after to the expiration date of the grant. The OA and the WB will then review the draft report, and provide written comments to the grantee within 15 days of receipt.

VII. Agency Contacts

For further information regarding this SGA, please contact James Stockton, Grant Officer of the Division of Federal Assistance, at (202) 693-3335. This is not a toll-free number. Applicants may fax questions about the program or information in this SGA to (202) 693-2879 and must specifically address the fax to James Stockton and should include SGA/DFA PY-06-01, a contact name, fax and phone number, and an e-mail address. The mailing address is: U.S. Department of Labor, Employment and Training Administration, Attention: James Stockton, Room N-4716, 200 Constitution Avenue, NW., Washington, DC 20210.

VIII. Other Information

A. Questions About the Program or SGA

Questions and responses submitted to the Grant Officer regarding this SGA will be posted on the Employment and Training Administration Web site at http://www.doleta.gov/grants. Questions will be received for one month after publication only. DOL ETA will not respond to duplicate questions or questions that are not within the scope of this SGA. Please do not direct questions to the OA or the WB.

B. Post Grant Award Conference

No later than eight (8) weeks after an award, the grantees shall meet with the OA and the WB at the Post-Award Conference to discuss the project, related components and TA; timelines; technical assistance outcomes; assessment for comment; and final approval. The grantees, the OA and the WB will discuss and make decisions on the following program activities:

1. The proposed TA commitments for registered apprenticeship, and related skilled nontraditional occupation activities and responsibilities; the number of targeted RAP(s); and the number of women who will become placed in a registered apprenticeship program.

2. The methodology the proposed partnership will use to support/change management and employee attitudes to promote female workers in A/NTO.

3. The types of systemic change anticipated by the TA strategies that will be incorporated into ongoing employer recruitment, hiring, training, and promotion of women in A/NTO.

4. The occupational, industrial, and geographical impact anticipated.

5. The supportive services to be provided to employers and women after successful placement into A/NTO.

The OA and the WB will provide further input orally or in writing, if necessary, within ten (10) working days after the Post-Award Conference.

C. Grant Plan of Action

If revisions have been necessary, no later than ten (10) weeks after an award, the grantees and the OA and the WB will confirm the “plan of action” and detailed time-line for program implementation.

D. Grant Implementation

No later than twelve (12) weeks after an award, the grantee(s) shall have begun to recruit, select, train, place, retain, and otherwise prepare women for registered apprenticeships in the construction industry, with progress to be measured in terms of placement and retention in registered apprenticeships.

E. Veterans Priority

The Jobs for Veterans Act (Pub. L. 107-288) provides priority of service to veterans and spouses of certain veterans for the receipt of employment, training, and placement services in any job training program directly funded, in whole or in part, by the U.S. Department of Labor. In circumstances where WANTO grant recipient must choose between two equally qualified candidates for training, one of whom is a veteran, the Jobs for Veterans Act requires that WANTO grant recipients give the veteran priority of service by admitting him or her into the program. Please note that, to obtain priority of service, a veteran must meet the program's eligibility requirement. ETA Training and Employment Guidance Letter (TEGL) No. 5-03 (September 16, 2003) provides guidance on the scope of the Jobs for Veterans Act and its effect on current employment and training programs. TEGL No. 5-03, along with additional guidance, is available at the “Jobs for Veterans Priority of Service” Web site (http://www.doleta.gov/programs/vets).

F. Acronyms and Definitions

The following terms are defined for the convenience of prospective applicants:

WANTO refers to Women in Apprenticeship and Nontraditional Occupations.

A/NTO refers to apprenticeship and nontraditional occupations.

E/LU refers to employers and labor unions.

OA refers to the Office of Apprenticeship, U.S. Department of Labor, Employment and Training Administration.

WB refers to the Women's Bureau, U.S. Department of Labor.

TA refers to technical assistance.

NTO (Nontraditional Occupations) are those where women account for less than 25 percent of all persons employed in a single occupational group. For the most recent listing of nontraditional jobs, see the WB Web site at http://www.dol.gov/wb/stats/main.htm.

RAP refers to Registered Apprenticeship Program.

Pre-Apprenticeship Programs are those programs that prepare individuals for registered apprenticeship. Depending on the apprenticeable occupation for which the program is preparing students, the curriculum would vary. For example, a curriculum for a construction industry occupation may include pre-vocational identification and use of tools, blueprint reading, basic shop skills, safety procedures, math skills, and physical conditioning. English as a Second Language and team-building skills might also be included.

Registered Apprenticeship is a formal employment relationship designed to promote skill training and learning on the job. “Hands on” learning takes place in conjunction with related theoretical instruction (often in a classroom setting). An apprentice who successfully completes an OA registered program, which usually requires 3 to 5 years, is awarded a certificate of completion of apprenticeship. An OA registered program is one in which employers, or groups of employers, and unions design, organize, manage, and finance apprenticeship programs under the standards developed and registered with OA or an OA-recognized State Apprenticeship Agency. Employers, or groups of employers, and unions also select apprentices who are trained to meet certain predetermined occupational standards. For more information, see the OA Web site at http://www.doleta.gov/oa/.

CBO (Community-Based Organization) is a private nonprofit organization, which may be faith-based, that is representative of a community or a significant segment of a community, and which provides job-training services and has demonstrated experience administering programs that train women for A/NTO. (A CBO, as defined in the WANTO Act, means a “community-based organization as defined in section 101(7) of the Workforce Investment Act of 1998 (29 U.S.C. 2801 (7)), that has demonstrated experience administering programs that train women for apprenticeable occupations or other nontraditional occupations.” WIA states, “The term 'community-based organizations' means 'private nonprofit organizations which are representative of communities or significant segments of communities and which provide job training services.’ ” The WIA definition provides examples of organizations which meet the definition, including “union-related organizations” and “employer-related nonprofit organizations.”)

Consortium refers to a group formed to undertake a project.

CBO/RAP Consortium refers to a group consisting of a minimum of: (1) A construction industry registered apprenticeship program (RAP) sponsor; and (2) a CBO (which may be faith based) with demonstrated experience in securing job training services from established training institutions such as community colleges, and providing placement and support services to women in construction industry jobs.

Technology-Based Learning (TBL) can be defined as the learning of content via all-electronic technology, including the Internet, intranets, satellite broadcasts, audio and video tape, video and audio conference, Internet conferencing, chat rooms, bulletin boards, web casts, computer-based instruction, and CD-ROM. It encompasses related terms, such as online learning, Web-based learning, computer-based learning, and e-learning.

Signed at Washington, DC, this 6th day of February 2007.
James W. Stockton,
Grant Officer of the Division of Federal Assistance.

[FR Doc. E7-2400 Filed 2-12-07; 8:45 am]

BILLING CODE 4510-30-P